SMALL BUSINESS ADMINISTRATION

[License No. 01/01-0396]

Seacoast Capital Partners II, L.P.; Notice Seeking Exemption Under Section 312 of the Small Business Investment Act, Conflicts of Interest

Notice is hereby given that Seacoast Capital Partners II, L.P., 55 Ferncroft Road, Danvers, MA 01923, a Federal Licensee under the Small Business Investment Act of 1958, as amended (“the Act”), in connection with the financing of a small concern, has sought an exemption under section 312 of the Act and section 107.730, Financings which Constitute Conflicts of Interest of the Small Business Administration (“SBA”) rules and regulations (13 CFR 107.730 (2002)). Seacoast Capital Partners II, L.P. proposes to provide subordinated debt financing to KODA Distribution, Inc., 154 Pioneer Drive, Leominster, Massachusetts 01453. The financing is contemplated to pay off expiring subordinated debt used for working capital purposes.

The financing is brought within the purview of § 107.730(a)(4) of the Regulations because Seacoast Capital Partners II, L.P.”s investment in KODA Distribution, Inc. will discharge an obligation of Seacoast Capital Partners, L.P., an Associate of Seacoast Capital Partners II, L.P. Therefore, this transaction is considered a financing of an Associate requiring prior SBA approval.

Notice is hereby given that any interested person may submit written comments on the transaction, within 15 days of the date of this publication, to the Associate Administrator for Investment, U.S. Small Business Administration, 409 Third Street, SW., Washington, DC 20416.

Dated: May 11, 2004.
Jeffrey D. Pierson,
Associate Administrator for Investment.

[FR Doc. 04-10975 Filed 5-13-04; 8:45 am]

BILLING CODE 8025-01-P